DEPARTMENT OF AGRICULTURE

Submission for OMB Review; Comment Request

August 26, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Social Dimensions of Fuel Reduction Treatment in the Southern Appalachian Region.

OMB Control Number: 0596-NEW.

Summary of Collection: The Forest and Rangeland Renewable Resources Research Act of 1978, as amended, authorizes the Forest Service (FS) to collect information to help identify the range of knowledge, attitudes and values interested publics hold toward fuel-load reduction and resulting aesthetic and ecological changes. Fuel loads in the forest of the Southern Appalachian Mountain pose significant risk of wildfire. Among forest ecologists there is a growing awareness that there may be some value to conducting prescribed fires and mechanical thinning to reduce the concentration of shrubs and under-story trees in some parts of the Southern Appalachian Mountains. These treatments, particularly if they were to be implemented over large areas, would change the visual and ecological character of the Southern Appalachian Mountains. FS will collect information using the Internet and a mail-back questionnaire.

Need and Use of the Information: FS will collect information describing respondents' perceptions of the aesthetic (visual), economic and ecological results of prescribed fire and mechanical thinning. The collected information will provide profiles of different groups or clusters of people and how each group perceives the economic, aesthetic and ecological results of forest management action. Without the information programs will be less efficient and accurate and unneeded conflicts and misunderstandings may be more common.

Description of Respondents: Individuals or households.

Number of Respondents: 600.

Frequency of Responses: Reporting: On occasion.

Total Burden Hours: 304.

Ruth Brown,
Departmental Information Collection Clearance Officer.

[FR Doc. 05-17380 Filed 8-31-05; 8:45 am]

BILLING CODE 3410-11-P